DEPARTMENT OF THE INTERIOR

Bureau of Land Management

[MT-924-1430-ET; MTM 014987 and MTM 41561]

Public Land Order No. 7430; Partial Revocation of Executive Order dated June 1, 1912 and Public Land Order No. 1692; Montana

AGENCY: Bureau of Land Management, Interior.

ACTION: Public land order.

SUMMARY: This order revokes an Executive order and a public land order insofar as they affect 17.15 acres of National Forest System lands withdrawn for the Wise River Ranger Station and the Bureau of Land Management's Phosphate Reserve No. 12—Montana No. 3. The lands are no longer needed for these purposes and the revocation would make 14.90 acres available for exchange. These lands have been and will remain open to mineral leasing. The remaining 2.25 acres have been conveyed out of Federal ownership and this is a record-clearing action only for this portion.

EFFECTIVE DATE: March 24, 2000.

FOR FURTHER INFORMATION CONTACT: Sandra Ward, BLM Montana State Office, P.O. Box 36800, Billings, Montana 59107, 406-896-5052.

By virtue of the authority vested in the Secretary of the Interior by Section 204 of the Federal Land Policy and Management Act of 1976, 43 U.S.C. 1714 (1994), it is ordered as follows:

1. The Executive Order dated June 10, 1912, which withdrew National Forest System lands for Phosphate Reserve 12—Montana No. 3, and Public Land Order No. 1692, which withdrew National Forest System lands for the Bureau of Land Management's Phosphate Reserve No. 12—Montana No. 3, are hereby revoked insofar as they affect the following described lands:

Principal Meridian, Montana

Beaverhead National Forest

(a) Federal lands (14.90 acres)

T. 1 S., R. 11 W.,

Sec. 3, lot 10.

(b) Non-Federal lands (2.25 acres)

T. 1 S., R. 11 W.,

Sec. 3, a strip of land lying between Tracts A and B of HES 223.

The areas described in (a) and (b) contain 17.15 acres in Beaverhead County.

2. The lands described in Paragraph 1(a) are hereby made available for exchange in accordance with the General Exchange Act of 1922, 16 U.S.C. 485, 486 (1994).

3. The lands described in Paragraph 1(b) have been conveyed out of Federal ownership and this is a record-clearing action only.

Dated: March 10, 2000.
Kevin Gover,
Assistant Secretary of the Interior.

[FR Doc. 00-7289 Filed 3-23-00; 8:45 am]

BILLING CODE 4310-DN-P